DEPARTMENT OF COMMERCE

International Trade Administration

[A-570-010, C-570-011]

Crystalline Silicon Photovoltaic Products From the People's Republic of China: Notice of Initiation of Changed Circumstances Reviews, and Consideration of Revocation of the Antidumping and Countervailing Duty Orders in Part

AGENCY: Enforcement and Compliance, International Trade Administration, Department of Commerce.

SUMMARY: Based on a request from Memory Experts Inc., dba PowerTraveller (Memory Experts), the Department of Commerce (Commerce) is initiating changed circumstances reviews to consider the possible revocation, in part, of the antidumping duty (AD) and countervailing duty (CVD) orders on crystalline silicon photovoltaic products from the People's Republic of China (China) with respect to certain off-grid portable small panels.

DATES: Applicable June 12, 2020.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On February 18, 2015, Commerce published AD and CVD orders on certain crystalline silicon photovoltaic products from China.¹ On March 16, 2020, Memory Experts, an importer of the subject merchandise, requested, through changed circumstances reviews, revocation of the Solar Products Orders with respect to certain off-grid portable small panels pursuant to section 751(b)(1) of the Tariff Act of 1930, as amended (the Act) and 19 CFR 351.216(b).² On April 13, 2020, Hanwha Q CELL USA, Inc. (Q CELL USA) and SunPower Manufacturing Oregon, LLC (SPMOR), U.S. producers of the domestic like product, submitted letters stating that they did not oppose the partial revocation proposed by Memory Experts.³ On April 21, 2020, we issued a letter to Memory Experts noting that its changed circumstances reviews request lacked certain information required for Commerce to consider the request.⁴ On May 1, 2020, Memory Experts amended its request for changed circumstances reviews by providing the required information.⁵

¹ See Certain Crystalline Silicon Photovoltaic Products From the People's Republic of China: Antidumping Duty Order; and Amended Final Affirmative Countervailing Duty Determination and Countervailing Duty Order, 80 FR 8592 (February 18, 2015) (Solar Products Orders).

² See Memory Experts' Letter, “Crystalline Silicon Photovoltaic Cells, Whether or Not Assembled into Modules From the People's Republic of China; Memory Experts Inc., dba PowerTraveller's Request for a Changed Circumstances Review,” dated March 16, 2020.

³ See Q CELL USA Inc.'s Letter, “Crystalline Silicon Photovoltaic Cells, Whether or Not Assembled into Modules From the People's Republic of China; Hanwha Q CELL USA, Inc.'s Comments on Memory Experts Inc.'s Request for a Changed Circumstances Review,” dated April 13, 2020; see also SunPower Manufacturing Oregon, LLC's Letter, “Certain Crystalline Silicon Photovoltaic Products From the People's Republic of China; SPMOR Comments on Memory Experts Inc.'s Request for a Changed Circumstances Review,” dated April 13, 2020.

⁴ See Commerce's Letter, “Crystalline Silicon Photovoltaic Products From the People's Republic of China: Supplemental Questionnaire,” dated April 21, 2020.

⁵ See Memory Experts' Letter, “Supplemental Questionnaire Response of Memory Experts Inc., dba PowerTraveller,” dated May 1, 2020.

Scope of the Solar Products Orders

The merchandise covered by these orders is modules, laminates and/or panels consisting of crystalline silicon photovoltaic cells, whether or not partially or fully assembled into other products, including building integrated materials. For purposes of these orders, subject merchandise includes modules, laminates and/or panels assembled in China consisting of crystalline silicon photovoltaic cells produced in a customs territory other than China.

Subject merchandise includes modules, laminates and/or panels assembled in China consisting of crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Excluded from the scope of these orders are thin film photovoltaic products produced from amorphous silicon (a-Si), cadmium telluride (CdTe), or copper indium gallium selenide (CIGS). Also excluded from the scope of these orders are modules, laminates and/or panels assembled in China, consisting of crystalline silicon photovoltaic cells, not exceeding 10,000 mm² in surface area, that are permanently integrated into a consumer good whose function is other than power generation and that consumes the electricity generated by the integrated crystalline silicon photovoltaic cells. Where more than one module, laminate and/or panel is permanently integrated into a consumer good, the surface area for purposes of this exclusion shall be the total combined surface area of all modules, laminates and/or panels that are integrated into the consumer good.

Further, also excluded from the scope of these orders are any products covered by the existing antidumping and countervailing duty orders on crystalline silicon photovoltaic cells, whether or not assembled into modules, laminates and/or panels, from China.⁶

⁶ See Crystalline Silicon Photovoltaic Cells, Whether or Not Assembled Into Modules, From the People's Republic of China: Amended Final Determination of Sales at Less Than Fair Value, and Antidumping Duty Order, 77 FR 73018 (December 7, 2012); Crystalline Silicon Photovoltaic Cells, Whether or Not Assembled Into Modules, From the People's Republic of China: Countervailing Duty Order, 77 FR 73017 (December 7, 2012).

Additionally, excluded from the scope of these orders are solar panels that are: (1) Less than 300,000 mm2 in surface area; (2) less than 27.1 watts in power; (3) coated across their entire surface with a polyurethane doming resin; and (4) joined to a battery charging and maintaining unit (which is an acrylonitrile butadiene styrene (ABS) box that incorporates a light emitting diode (LED)) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.”

Merchandise covered by these orders is currently classified in the Harmonized Tariff Schedule of the United States (HTSUS) under subheadings 8501.61.0000, 8507.20.8030, 8507.20.8040, 8507.20.8060, 8507.20.8090, 8541.40.6015, 8541.40.6020, 8541.40.6030, 8541.40.6035 and 8501.31.8000. These HTSUS subheadings are provided for convenience and customs purposes; the written description of the scope of these orders is dispositive.⁷

⁷ See Solar Products Orders.

Proposed Revocation of the Solar Products Orders

Memory Experts proposes that the Solar Products Orders be revoked, in part, with respect to certain off-grid portable small panels. Specifically, Memory Experts proposes revoking the Solar Products Orders with respect to the solar panels described below:

(1) Off-grid crystalline silicon photovoltaic panels without a glass cover with the following characteristics:

(a) Total power output of 500 watts or less per panel;

(b) Maximum surface area of 8,000 cm² per panel;

(c) Unit does not include a built-in inverter;

(d) Unit has visible parallel grid collector metallic wire lines every 2-40 millimeters across each solar panel (depending on model);

(e) Solar cells are encased in laminated frosted PET material without stitching; ⁸

⁸ Although the polyester material has stitching on the perimeter of the unit, the cells are not stitched into the PET material.

(f) The panel is encased in polyester fabric with visible stitching which includes a Velcro-type storage pocket and unit closure, or encased within a Neoprene clamshell (depending on model);

(g) Includes LED indicator.

Initiation of Changed Circumstances Reviews, and Consideration of Revocation of the Solar Products Orders in Part

Pursuant to section 751(b) of the Act, Commerce will conduct a changed circumstances review upon receipt of a request from an interested party ⁹ that shows changed circumstances sufficient to warrant a review of an order. In accordance with 19 CFR 351.216(d), Commerce determines that the information submitted by Memory Experts, and the domestic producers' affirmative statements of no interest in the Solar Products Orders with respect to the products described by Memory Experts, constitute a sufficient basis to conduct changed circumstances reviews of the Solar Products Orders.

⁹ Memory Experts reported in its March 16, 2020, request for changed circumstances reviews that it is an importer of solar panels. As such, Memory Experts is an interested party pursuant to 19 CFR 351.102(b)(29).

Section 782(h)(2) of the Act and 19 CFR 351.222(g)(1)(i) provide that Commerce may revoke an order (in whole or in part) if it determines that producers accounting for substantially all of the production of the domestic like product have expressed a lack of interest in the order, in whole or in part. In addition, in the event Commerce determines that expedited action is warranted, 19 CFR 351.221(c)(3)(ii) permits Commerce to combine the notices of initiation and preliminary results. In its administrative practice, Commerce has interpreted “substantially all” to mean producers accounting for at least 85 percent of the total U.S. production of the domestic like product covered by the order.¹⁰

¹⁰ See, e.g., Certain Cased Pencils From the People's Republic of China: Initiation and Preliminary Results of Antidumping Duty Changed Circumstances Review, and Intent To Revoke Order in Part, 77 FR 42276 (July 18, 2012), unchanged in Certain Cased Pencils From the People's Republic of China: Final Results of Antidumping Duty Changed Circumstances Review, and Determination To Revoke Order, in Part, 77 FR 53176 (August 31, 2012).

The domestic producers state that they do not oppose the partial revocation request; however, because neither domestic party indicated whether it accounts for substantially all of the domestic production of crystalline silicon photovoltaic products, we are not combining this notice of initiation with a preliminary determination, pursuant to 19 CFR 351.221(c)(3)(ii), but will provide interested parties with an opportunity to address the issue of domestic industry support with respect to this requested partial revocation of the Solar Products Orders, as explained below. After examining comments, if any, concerning domestic industry support, we will issue the preliminary results of these changed circumstances reviews.

Public Comment

Interested parties are invited to provide comments and/or factual information regarding these changed circumstances reviews, including comments on industry support and the proposed partial revocation language. Comments and factual information may be submitted to Commerce no later than ten days after the date of publication of this notice. Rebuttal comments and rebuttal factual information may be filed with Commerce no later than seven days after the comments and/or factual information are filed.¹¹ Note that Commerce has modified certain of its requirements for serving documents containing business proprietary information, until July 17, 2020, unless extended.¹² All submissions must be filed electronically using Enforcement and Compliance's AD and CVD Centralized Electronic Service System (ACCESS).¹³ An electronically filed document must be received successfully in its entirety by ACCESS, by 5 p.m. Eastern Time on the due dates set forth in this notice.

¹¹ Submissions of rebuttal factual information must comply with 19 CFR 351.301(b)(2).

¹² See Temporary Rule Modifying AD/CVD Service Requirements Due to COVID-19; Extension of Effective Period, 85 FR 29615 (May 18, 2020).

¹³ See generally 19 CFR 351.303.

Preliminary and Final Results of the Review

Commerce intends to publish in the Federal Register a notice of the preliminary results of these AD and CVD changed circumstances reviews in accordance with 19 CFR 351.221(b)(4) and (c)(3)(i), which will set forth Commerce's preliminary factual and legal conclusions. Commerce will issue its final results of these changed circumstances reviews in accordance with the time limits set forth in 19 CFR 351.216(e).

This initiation notice is published in accordance with section 751(b)(1) of the Act and 19 CFR 351.221(b)(1).

Dated: June 5, 2020.
Jeffrey I. Kessler,
Assistant Secretary for Enforcement and Compliance.

[FR Doc. 2020-12745 Filed 6-11-20; 8:45 am]

BILLING CODE 3510-DS-P